DEPARTMENT OF VETERANS AFFAIRS

Privacy Act of 1974, Addition of Routine Use to System of Records Veterans and Beneficiaries Identification and Records Location Subsystem—VA

AGENCY: Department of Veterans Affairs.

ACTION: Notice; addition of routine use.

SUMMARY: As required by the Privacy Act of 1974, 5 U.S.C. 552a(e)(4), notice is hereby given that the Department of Veterans Affairs (VA) proposes to add a routine use to the system of records “Veterans and Beneficiaries Identification and Records Location Subsystem—VA (38VA21).”

DATES: The proposed routine use will be effective July 5, 2001, unless comments are received before this date which would result in a contrary determination.

ADDRESSES: Written comments concerning the proposed amendment to the routine use may be mailed to the Office of Regulations Management (02D), Department of Veterans Affairs, 810 Vermont Ave., NW, Washington, DC 20420.

FOR FURTHER INFORMATION CONTACT: Paul Trowbridge, Consultant, Compensation and Pension Service, Department of Veterans Affairs, 810 Vermont Ave., NW, Washington, DC 20420, (202) 273-7218.

SUPPLEMENTARY INFORMATION: There is an ongoing computer matching program between the Department of Veterans Affairs (VA) and the Department of Education (ED) to provide ED with information about the veteran status of applicants for Federal financial aid. Veteran status is relevant to the financial aid process because ED treats veterans as independent applicants—which means that they are not required to provide parental financial information. ED uses the computer match with VA to quickly verify the veteran status of many financial aid applicants. In a memorandum dated September 30, 1998, VA's Office of General Counsel stated that routine use #2 in the system of records 38VA21 was legally sufficient to support the existing computer match with ED but recommended that VA promulgate a new routine use in this system of records specifically authorizing disclosure for the purpose of conducting computer matches.

VA proposes to add this routine use to the following system of records which is contained in the Federal Register: “Veterans and Beneficiaries Identification and Records Location Subsystem—VA (38VA21).”

A “Report of Altered System” and an advance copy of the revised system have been sent to the Chairmen and Ranking Minority Members of the Committee on Government Reform of the U.S. House of Representatives and the Committee on Governmental Affairs of the U.S. Senate, and to the Office of Management and Budget, as required by 5 U.S.C. 552a(o) and guidelines issued by the Office of Management and Budget.

Interested persons are invited to submit written comments, suggestions, or objections regarding the proposed amended routine use statement to the Director, Office of Regulations Management (02D), Department of Veterans Affairs, 810 Vermont Ave., NW, Washington, DC 20420. All relevant material received on or before July 5, 2001 will be considered. All written comments received will be available for public inspection at the above address in the Office of Regulations Management, Room 1158, between the hours of 8:30 a.m. and 4:30 p.m., Monday through Friday, except holidays.

If no public comment is received during the 30-day review period allowed for public comment, or otherwise published in the Federal Register by VA, the new routine use is effective July 5, 2001.

Approved: May 21, 2001.
Anthony J. Principi,
Secretary of Veterans Affairs.

1. In the system identified as “Veterans and Beneficiaries Identification and Records Location Subsystem—VA (38VA21) “the following routine use is added:

38VA21

System name:

Veterans and Beneficiaries Identification and Records Location Subsystem—VA.

* * * * *

Routine uses of records maintained in the system, including categories of users and purposes of such uses:

* * * * *

21. Any information in this system of records may be disclosed to a Federal agency for the purpose of conducting a computer matching program (as defined in 5 U.S.C. § 552a(a)(8)) in accordance with the provisions of section 552a.

* * * * *

[FR Doc. 01-13848 Filed 6-1-01; 8:45 am]

BILLING CODE 8320-01-P